DEPARTMENT OF TRANSPORTATION

Federal Aviation Administration

[Summary Notice No. PE-2003-64]

Petitions for Exemption; Summary of Petitions Received; Correction

AGENCY: Federal Aviation Administration (FAA), DOT.

ACTION: Notice of petitions for exemption received; correction.

SUMMARY: This document makes a correction to the summary of petitions received published in the Federal Register on November 12, 2003 (68 FR 64186). That notice contained a summary of certain petitions seeking relief from specified requirements of 14 CFR.

FOR FURTHER INFORMATION CONTACT: Tim Adams (202) 267-8033, Sandy Buchanan-Sumter (202) 267-7271, Office of Rulemaking (ARM-1), Federal Aviation Administration, 800 Independence Avenue, SW., Washington, DC 20591.

Correction

In notice of petitions for exemption FR Doc. 03-28256, published on November 12, 2003 (68 FR 64186), make the following correction:

1. On page 64187, in column 2, beginning on line four, correct “Docket No.: FAA-2003-16195” to read “Docket No.: FAA-2003-16138”.

Issued in Washington, DC, on November 17, 2003.
Donald P. Byrne,
Assistant Chief Counsel for Regulations.

[FR Doc. 03-29023 Filed 11-19-03; 8:45 am]

BILLING CODE 4910-13-P